DEPARTMENT OF LABOR

Employment and Training Administration

[TA-W-60,756]

Eramet Marietta; Marietta, OH; Notice of Termination of Investigation

Pursuant to Section 221 of the Trade Act of 1974, as amended, an investigation was initiated on January 12, 2007 in response to a petition filed by the United Steel Workers, Local 1-00639-01, on behalf of workers at Eramet Marietta, Marietta, Ohio.

The petitioner has requested that the petition be withdrawn. Consequently, the investigation has been terminated.

Signed in Washington, DC, this 5th day of February 2007.
Linda G. Poole,
Certifying Officer, Division of Trade Adjustment Assistance.

[FR Doc. E7-2286 Filed 2-9-07; 8:45 am]

BILLING CODE 4510-FN-P